DEPARTMENT OF COMMERCE

National Oceanic and Atmospheric Administration

[RTID 0648-XE526]

Pacific Fishery Management Council; Public Meeting

AGENCY: National Marine Fisheries Service (NMFS), National Oceanic and Atmospheric Administration (NOAA), Commerce.

ACTION: Notice; public meeting.

SUMMARY: The Pacific Fishery Management Council's (Pacific Council) Groundfish Management Team (GMT) will hold a hybrid in person/webinar work session that is open to the public.

DATES: The GMT meeting will be held Tuesday, February 4, 2025 from 12:30 p.m., Pacific standard time, until business for the day has been completed. The GMT will reconvene Wednesday, February 5 through Friday, February 7, 2025, from 8:30 a.m. until business for each day has been completed.

ADDRESSES:

Meeting address: The meeting will be held at the Pacific Fishery Management Council Office, Large Conference Room, 7700 NE Ambassador Place, Suite 101, Portland, OR 97220-1384. This work session is being conducted in person with a web broadcast that provides the opportunity for remote public comment. Specific meeting information, including directions on how to join the meeting and system requirements will be provided in the meeting announcement on the Pacific Council's website (see www.pcouncil.org). Please contact Mr. Kris Kleinschmidt (kris.kleinschmidt@noaa.gov) or (503) 820-2412 for technical assistance.

Council address: Pacific Fishery Management Council, 7700 NE Ambassador Place, Suite 101, Portland, OR 97220-1384.

FOR FURTHER INFORMATION CONTACT: Mr. Todd Phillips, Pacific Council; telephone: (503) 820-2426.

SUPPLEMENTARY INFORMATION: The primary purpose of this work session is for the GMT to prepare for 2025 Pacific Council meetings. Specific agenda items will include: Phase 2 stock definitions, new management measure development and prioritization, 2027/2028 harvest specifications and management measure expectations, the expected humpback whale and leatherback sea turtle biological opinion, and GMT chair/vice chair elections. The GMT may also address groundfish management actions the Pacific Council has indicated on their Year-at-a-Glance calendar, such as the 2025 Pacific whiting fishery and limited entry fixed gear follow-on actions. A detailed agenda will be available on the Pacific Council's website prior to the meeting.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or auxiliary aids should be directed to Mr. Kris Kleinschmidt (kris.kleinschmidt@noaa.gov; (503) 820-2412) at least 10 business days prior to the meeting date.

Authority: 16 U.S.C. 1801 et seq.

Dated: December 20, 2024.
Rey Israel Marquez,
Acting Deputy Director, Office of Sustainable Fisheries, National Marine Fisheries Service.

[FR Doc. 2024-31039 Filed 12-26-24; 8:45 am]

BILLING CODE 3510-22-P